COMMODITY FUTURES TRADING COMMISSION

17 CFR Part 140

Delegations of Authority

AGENCY: Commodity Futures Trading Commission.

ACTION: Final rule.

SUMMARY: The Commission is adopting a rule to re-delegate authority formerly delegated to the Directors of the Division of Trading and Markets and the Division of Economic Analysis, and their respective designees, to the respective Directors and their designees of two newly established operating divisions of the Commission: The Division of Market Oversight and the Division of Clearing and Intermediary Oversight. The reorganized divisions will more effectively implement the provisions of the Commodity Futures Modernization Act of 2000.

EFFECTIVE DATE: July 9, 2002.

FOR FURTHER INFORMATION CONTACT: Harold L. Hardman, Assistant General Counsel or Julian E. Hammar, Attorney, Office of General Counsel, Commodity Futures Trading Commission, Three Lafayette Centre, 1155 21st Street, NW., Washington, DC 20581. Telephone: 202-418-5120. E-mail: (hhardman@cftc.gov) or (jhammar@cftc.gov).

SUPPLEMENTARY INFORMATION:

I. Delegations

Congress passed and the President signed into law the Commodity Futures Modernization Act of 2000 (“CFMA”), amending the Commodity Exchange Act.¹ In order to more effectively implement its provisions, the Commission has reorganized its operating divisions. Under the reorganization plan, the Division of Trading and Markets and the Division of Economic Analysis have been reconfigured into two new divisions: The Division of Market Oversight and the Division of Clearing and Intermediary Oversight.

¹ The Commodity Exchange Act may be found at 7 U.S.C. 1 et seq. (2000) as amended by the Commodity Futures Modernization Act of 2000, Appendix E of Pub. L. 106-554, 114 Stat. 2763 (2000).

The Commission's rules in Chapter I of Title 17 of the Code of Federal Regulations contain numerous specific delegations of authority from the Commission to the Directors of the Division of Trading and Markets and/or the Division of Economic Analysis, and their respective designees. The Commission effective immediately is adopting new rule 140.100, which provides that all delegations of authority from the Commission to the Directors of the Division of Trading and Markets and/or the Division of Economic Analysis, and their respective designees, as currently set forth in Chapter I of Title 17 of the Code of Federal Regulations, are delegated jointly to the respective Directors of the Division of Market Oversight and the Division of Clearing and Intermediary Oversight, and their respective designees.² The conditions of, and limitations upon, the original delegations of authority remain unchanged.

² Section 15 of the Commodity Exchange Act, as amended by the Commodity Futures Modernization Act of 2000, provides that before promulgating a regulation under this Act or issuing an order, the Commission shall consider the costs and benefits of the action of the Commission. This rule governs internal agency organization, procedure, and practice, and therefore the Commission finds that none of the considerations enumerated in Section 15(a)(2) of the Act, as amended, are applicable to this rule.

II. Related Matters

Administrative Procedure Act

The Commission has determined that this delegation of authority relates solely to agency organization, procedure and practice. Therefore, the provisions of the Administrative Procedure Act that generally require notice of proposed rulemaking and that provide other opportunities for public participation are not applicable.³ The Commission further finds that, because the rules have no adverse effect upon a member of the public, there is good cause to make them effective immediately upon publication in the Federal Register.

³ 5 U.S.C. 553 (1994).

List of Subjects in 17 CFR Part 140

Authority delegations (Government agencies), Organization and functions (Government agencies).

In consideration of the foregoing and pursuant to the authority contained in the Commodity Exchange Act and in particular, sections 2(a) and 8a,⁴ as amended by the Commodity Futures Modernization Act of 2000, appendix E of Public Law 106-554, 114 Stat. 2763 (2000), the Commission amends part 140 of title 17 of the Code of Federal Regulations as follows:

⁴ 7 U.S.C. 2(a) and 12a (2000).

PART 140—ORGANIZATION, FUNCTIONS, AND PROCEDURES OF THE COMMISSION

1. The authority citation for part 140 continues to read as follows:

Authority: 7 U.S.C. 2 and 12a.

2. Part 140 of 17 CFR is amended by adding new § 140.100 to subpart B to read as follows:

§ 140.100 Delegations of authority.

The Commission hereby re-delegates the delegations of authority made to the Directors of the Division of Trading and Markets and/or to the Division of Economic Analysis, and their respective designees, in all instances as they occur throughout this chapter, jointly to the respective Directors of the Division of Market Oversight and the Division of Clearing and Intermediary Oversight, and their respective designees.

Issued in Washington, DC, on July 2, 2002, by the Commission.
Jean A. Webb,
Secretary of the Commission.

[FR Doc. 02-17179 Filed 7-8-02; 8:45 am]

BILLING CODE 6351-01-M